DEPARTMENT OF HOMELAND SECURITY

Coast Guard

33 CFR Part 165

[USCG-2009-0782]

RIN 1625-AA00

Safety Zone, Chicago Harbor, Navy Pier Southeast, Chicago, IL

AGENCY: Coast Guard, DHS.

ACTION: Notice of enforcement of regulation.

SUMMARY: The Coast Guard will enforce the Navy Pier Southeast Safety Zone in Chicago Harbor from September 2, 2009, through September 26, 2009. This action is necessary and intended to ensure safety of life on the navigable waters immediately prior to, during, and immediately after fireworks events. This rule will establish restrictions upon and control movement of vessels in the specified area immediately prior to, during, and immediately after the fireworks events. During the enforcement period, no person or vessel may enter the safety zone without permission of the Captain of the Port Lake Michigan.

DATES: The regulations in 33 CFR 165.931 will be enforced during the times listed in the SUPPLEMENTARY INFORMATION from September 2, 2009, to September 26, 2009.

FOR FURTHER INFORMATION CONTACT: If you have questions on this notice, call or e-mail BM1 Adam Kraft, Prevention Department, Coast Guard Sector Lake Michigan, Milwaukee, WI; telephone 414-747-7154, e-mail Adam.D.Kraft@uscg.mil.

SUPPLEMENTARY INFORMATION: The Coast Guard will enforce the Safety Zone, Chicago Harbor, Navy Pier Southeast, Chicago, IL, as listed in 33 CFR 165.931, for the following events, dates, and times:

(1) Navy Pier Wednesday Fireworks: On September 2, 2009, from 9:15 p.m. through 9:45 p.m.; on September 16, 2009, from 9 p.m. through 9:30 p.m.;

(2) Navy Pier Friday Fireworks: On September 18, 2009, from 8:45 p.m. through 9:20 p.m.; on September 25, 2009, from 8:45 p.m. through 9:20 p.m.;

(3) Navy Pier Saturday Fireworks: On September 5, 2009, from 10 p.m. through 10:40 p.m.; on September 19, 2009, from 8:45 p.m. through 9:20 p.m.; on September 26, 2009, from 8:45 p.m. through 9:20 p.m.; and

(4) Navy Pier Sunday Fireworks; On September 6, 2009, from 9:15 p.m. through 9:45 p.m.

All vessels must obtain permission from the Captain of the Port or a designated representative to enter, move within, or exit the safety zone. Vessels and persons granted permission to enter the safety zone shall obey all lawful orders or directions of the Captain of the Port or the designated representative. While within a safety zone, all vessels shall operate at the minimum speed necessary to maintain a safe course.

This notice is issued under authority of 33 CFR 165.931 Safety Zone, Chicago Harbor, Navy Pier Southeast, Chicago, IL. and 5 U.S.C. 552(a). In addition to this notice in the Federal Register, the Coast Guard will provide the maritime community with advance notification of these enforcement periods via broadcast Notice to Mariners or Local Notice to Mariners. The Captain of the Port will issue a Broadcast Notice to Mariners notifying the public when enforcement of the safety zone established by this section is suspended. If the Captain of the Port determines that the safety zone need not be enforced for the full duration stated in this notice, he or she may use a Broadcast Notice to Mariners to grant general permission to enter the safety zone. The Captain of the Port or the designated representative may be contacted via VHF-FM Channel 16.

Dated: August 26, 2009.
L. Barndt,
Captain, U.S. Coast Guard, Captain of the Port Lake Michigan.

[FR Doc. E9-22359 Filed 9-16-09; 8:45 am]

BILLING CODE 4910-15-P